ENVIRONMENTAL PROTECTION AGENCY

[ER-FRL-9009-9]

Environmental Impact Statements; Notice of Availability

Responsible Agency: Office of Federal Activities, General Information (202) 564-7146 or http://www.epa.gov/compliance/nepa/.

Weekly receipt of Environmental Impact Statements Filed 06/24/2013 Through 06/28/2013 Pursuant to 40 CFR 1506.9.

Notice

Section 309(a) of the Clean Air Act requires that EPA make public its comments on EISs issued by other Federal agencies. EPA's comment letters on EISs are available at: http://www.epa.gov/compliance/nepa/eisdata.html.

EIS No. 20130186, Final EIS, WAPA, CO, Granby Pumping Plant Switchyard—Windy Gap Substation Transmission Line Rebuild, Review Period Ends: 07/29/2013, Contact: Jim Hartman 720-962-7255. The above project was inadvertently omitted from EPA's FR Notice Published 06/28/2013

EIS No. 20130187, Final EIS, BR, CA, San Luis Reservoir State Recreation Area Resource Management Plan/General Plan, Review Period Ends: 08/05/2013, Contact: Dave Wooley 559-487-5049

EIS No. 20130188, Final EIS, BLM, 00, ADOPTION—Ruby Pipeline Project, Proposed Natural Gas Pipeline Facilities, Contact: Mark Mackiewicz 435-636-3616

The U.S. Department of the Interior's Bureau of Land Management (BLM) has adopted the Federal Energy Regulatory Commission's FEIS # 20100001, filed 01/07/2010 and appeared in the FR 01/15/2010. The BLM was a cooperating agency for the above project. Recirculation of the FEIS is not necessary under Section 1506.3(c) of the CEQ Regulations.

EIS No. 20130189, Final EIS, GSA, NY, Public Sale of Plum Island, Review Period Ends: 08/05/2013, Contact: John Dugan 617-565-5709

EIS No. 20130190, Final EIS, BLM, NV, Hollister Underground Mine Project, Review Period Ends: 08/05/2013, Contact: Janice Stadelman 775-753-0346

EIS No. 20130191, Final EIS, BLM, CA, Casa Diablo IV Geothermal Development Project, Review Period Ends: 08/05/2013, Contact: Collin Reinhardt 760-872-5024

EIS No. 20130192, Final EIS, NOAA, WA, Final Duwamish River NRDA PEIS and Restoration Plan, Review Period Ends: 08/05/2013, Contact: Rebecca Hoff 206-526-6276

EIS No. 20130193, Draft EIS, CALTRANS, CA, State Route 58 (SR-58) Kramer Junction Expressway Project, Comment Period Ends: 08/19/2013, Contact: Kurt Heidelberg 909-388-7028

EIS No. 20130194, Draft EIS, USFS, OR, Fox Canyon Cluster Allotment Management Plans, Comment Period Ends: 08/19/2013, Contact: Jeff Marszal 541-416-6436

EIS No. 20130195, Draft EIS, USCG, FL, Proposed New Bridge across the Manatee River, Comment Period Ends: 08/19/2013, Contact: Randall Overton 305-415-6736

EIS No. 20130196, Draft EIS, BR, CA, Shasta Lake Water Resources Investigation, Comment Period Ends: 09/30/2013, Contact: Katrina Chow 916-978-5067

EIS No. 20130197, Final EIS, USACE, FL, Everglades Agricultural Area A-1 Shallow Flow Equalization Basin, Review Period Ends: 08/05/2013, Contact: Alisa Zarbo 561-472-3506

EIS No. 20130198, Draft Supplement, BLM, 00, Ruby Pipeline Project, Comment Period Ends: 08/19/2013, Contact: Mark Mackiewicz 435-636-3616

Amended Notices

EIS No. 20130091, Draft EIS, USFWS, 00, Niobrara Confluence and Ponca Bluffs Conservation Areas Land Protection Plan, Comment Period Ends: 09/30/2013, Contact: Nick Kaczor 303-236-4387 Revision to FR Notice Published 04/08/2013; Extending Comment Period from 06/03/2013 to 09/30/2013

EIS No. 20130129, Draft EIS, USA, TX, Implementation of Energy, Water, and Solid Waste Sustainability Initiatives at Fort Bliss, Texas & New Mexico, Comment Period Ends: 07/31/2013, Contact: Pamela M. Klinger 210-466-1595 Revision to FR Notice Published 05/17/2013; Extending Comment Period from 07/01/2013 to 07/31/2013

EIS No. 20130159, Final Supplement, USACE, IN, Indianapolis North Flood Damage Reduction Project, Review Period Ends: 09/06/2013, Contact: Keith Keeney 502-315-6885 Revision to FR Notice Published 06/14/2013; Extending Review Period from 07/08/2013 to 09/06/2013

Dated: July 1, 2013.
Cliff Rader,
Director, NEPA Compliance Division, Office of Federal Activities.

[FR Doc. 2013-16217 Filed 7-3-13; 8:45 am]

BILLING CODE 6560-50-P